DEPARTMENT OF COMMERCE

International Trade Administration

Business Development Mission Afghanistan

AGENCY: International Trade Administration, Department of Commerce.

ACTION: Notice to business development mission to Afghanistan, April 24-27, 2005.

SUMMARY: The International Trade Administration of the U.S. Department of Commerce is organizing a business development mission to Afghanistan on April 24-27, 2005. The mission will assist U.S. businesses exploring trade and investment opportunities in Afghanistan. A senior U.S. Department of Commerce official will lead a delegation of approximately 10 to 15 U.S.-based senior executives of small, medium, and large U.S. firms. Companies may represent, but are not limited to, the following priority sectors: construction, telecommunications, agribusiness, energy, and financial services. The mission will include briefings from U.S. Embassy staff and Afghan Government officials, prearranged one-on-one meetings, and a networking reception. The mission will reaffirm the U.S. Government's support towards bilateral relations and seek to expand opportunities for U.S. companies in Afghanistan.

FOR FURTHER INFORMATION CONTACT: Office of Global Trade Programs, Room 2012, Department of Commerce, Washington, DC 20230; Tel: (202) 482-4457; Fax: (202) 482-0178.

SUPPLEMENTARY INFORMATION:

Business Development Mission, Afghanistan; April 24-27, 2005.

Mission Statement

I. Description of the Mission

The International Trade Administration of the U.S. Department of Commerce is organizing a business development mission to Afghanistan on April 24-27, 2005. The mission will assist U.S. businesses exploring trade and investment opportunities in Afghanistan. A senior U.S. Department of Commerce official will lead a delegation of approximately 10 to 15 U.S.-based senior executives of small, medium, and large U.S. firms. Companies may represent, but are not limited to, the following priority sectors: construction, telecommunications, agribusiness, energy, and financial services. The mission will include briefings from U.S. Embassy staff and Afghan Government officials, prearranged one-on-one meetings, and a networking reception. The mission will reaffirm the U.S. Government's support towards bilateral relations and seek to expand opportunities for U.S. companies in Afghanistan.

II. Commercial Setting for the Mission

Since the Taliban's fall from power in late 2001, Afghanistan is undergoing a transformation thanks to the United States and the international community. The Afghan Government seeks to revive the economy in order to improve the lives of Afghans, create jobs, attract foreign investment, and earn desperately needed hard currency. The agricultural, energy, housing, light industries and trading sectors present significant needs for development.

Although economic statistics on Afghanistan may not be reliable, the International Monetary Fund reports the gross domestic product (GDP) is estimated at $4.4 billion, and GDP per capita is about $250 per year. The estimated GDP growth rate for 2003-2004 was 16%, following a growth rate of 20% for 2002-2003. Economic recovery from more than twenty war-ravaged years is most visible in agriculture, construction and services sectors, driven by the international reconstruction effort.

The Afghan Government is taking many steps to build the mechanisms necessary for a viable commercial environment. The Afghan Government passed new investment and commercial banking laws to facilitate commercial and banking transactions. The Afghan Government created a “one-stop shop” for investors to receive necessary documents and other information for establishing a business venture in Afghanistan. With assistance from the U.S. Agency for International Development, the Ministry of Finance has embarked on an aggressive strategy to simplify and improve customs and border procedures to further facilitate trade between Afghanistan and the world. The Afghan Government is also working with the international community to reform the judicial system.

The basic business infrastructure, including telecommunications, commercial regulations and office support, is slowly improving. Given the tenuous security situation throughout the country, there is a shortage of insurance options for transporters and investors. The first of three industrial parks is scheduled to open in the Spring 2005.

U.S. Department of Commerce Assistant Secretary William H. Lash, III visited Kabul in August 2004. He was encouraged to see the progress in reconstruction, the potential for U.S. companies, and the entrepreneurial spirit of the Afghans. It is for this reason the mission is being planned.

III. Goals for the Mission

The mission aims to further U.S. commercial policy objectives and to advance specific U.S. business interests. The mission will

• Assess the commercial climate as well as export and investment opportunities in Afghanistan;

• Advance mission participants' specific business interests by introducing them to key Afghan government officials and potential business partners;

• Encourage continued progress in economic development in Afghanistan; and Enhance the dialogue between government and industry on issues affecting the development of bilateral commercial relations.

IV. Scenario for the Mission

The business development mission will expose participants to high-level contacts and provide access to the Afghan market. U.S. Embassy officials will provide a detailed briefing on the economic, commercial and political climate as well as current investment and reconstruction opportunities. Meetings will be arranged with appropriate government ministries, including the Afghan Investment Support Agency, the Ministries of Commerce, and Foreign Affairs, as well as sectoral ministries.

In addition to private sector representatives, U.S. Government economic agencies may also participate.

Timetable

The precise schedule will depend on the availability of local government and business officials and the specific goals of the mission participants. The tentative trip itinerary will be as follows:

Sunday, April 24, 2005:

Arrive in Kabul; Overview; Briefing by U.S. Embassy.

Monday, April 25, 2005:

Briefings by: Afghanistan Investment Support Agency/Ministry of Commerce; U.S. Agency for International Development and possible prime contractors; Ministry of Finance; Ministry of Foreign Affairs; One-on-one meetings with sectoral ministries.

Tuesday, April 26, 2005:

Meetings with Afghan businesses, Afghan-American Chamber of Commerce, and Afghanistan International Chamber of Commerce; One-on-one meetings with sectoral ministries.

Wednesday, April 27, 2005:

Briefings by: World Bank representatives; Asian Development Bank representatives. Depart Kabul.

V. Criteria for Participant Selection

The recruitment and selection of private sector participants for this mission will be conducted according to the “Statement of Policy Governing Department of Commerce-Overseas Trade Missions” established in March 1997. Approximately 10 to 15 companies will be selected for the mission according to the criteria set out below.

Eligibility: Participating companies must be incorporated or otherwise organized in the United States. A company is eligible to participate if the products and/or services that it will promote (a) are manufactured or produced in the United States; or (b) if manufactured or produced outside the United States, are marketed under the name of a U.S. firm and have at least 51 percent U.S. content of the value of the finished good or service.

Selection Criteria: Companies will be selected for participation in the mission on the basis of

• Consistency of company's goals with the scope and desired outcome of the mission;

• Relevance of a company's business and product line to the identified growth sectors;

• Rank of the designated company representative;

• Past, present, or prospective relevant international business activity;

• Diversity of company size, type, location, demographics, and traditional under-representation in business; and

• Timely receipt of the company's signed and completed application, participation agreement, and participation fee.

Recruitment will begin immediately and will be conducted in an open and public manner, including publication in the Federal Register, posting on the Commerce Department trade missions calendar (http://www.ita.doc.gov/doctm/tmcal.html), the Afghanistan Investment and Reconstruction Task Force Web site (http://www.export.gov/afghanistan), and press releases to the general and trade media. Promotion of the mission will also take place through the involvement of U.S. Export Assistance Centers and relevant trade associations.

An applicant's partisan, political activities (including political contribution) are entirely irrelevant to the selection process. The fee to participate in this mission has not yet been determined, but will be approximately USD 1,500. The fees will not cover travel expenses and lodging. Recruitment begins immediately and will close on March 31, 2005, in order to ensure sufficient time to obtain in-country appointments for applicants selected to participate in the mission. Applications received after that date will be considered only if space and scheduling constraints permit. The mission Web site (http://www.export.gov/afghanistan/events) will share information as it becomes available.

Disclaimer: Trade mission participants participate in the trade mission and undertake related travel at their own risk and are advised to obtain insurance accordingly. Any question regarding insurance coverage must be resolved by the participant and its insurer of choice. Trade mission participants and their companies, on behalf of themselves and any of their respective officers, employees or agents, agree to release, indemnify and hold harmless the U.S. Government from liability for any illness, injury, loss of life, or damage or loss of property, suffered by themselves or their respective officers, employees or agents, occasioned by or connected with participation in the trade mission. The U.S. Government does not make any representations or guarantees as to the safety or security of participants. Companies should consult the State Department's travel warning for Afghanistan: http://travel.state.gov/travel/afghanistan_warning.html. The U.S. Government does not make any representations or guarantees as to the success of the trade mission.

Contact Information: Jana Nelhybel, Afghanistan Investment and Reconstruction Task Force, U.S. Department of Commerce, Washington, DC 20230. Tel: (202) 482-1812. Fax: (202) 482-0980. E-mail: AfghanInfo@ita.doc.gov.

Dated: March 7, 2005.
Peter Hale,
Director, Office of Policy Coordination.

[FR Doc. E5-1024 Filed 3-10-05; 8:45 am]

BILLING CODE 3510-DS-P